DEPARTMENT OF AGRICULTURE

Submission for OMB Review; Comment Request

February 17, 2022.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by March 25, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Certification of Concrete Construction.

OMB Control Number: 0596-NEW.

Summary of Collection: Forest Service Special Use Permit (SUP FS-2700-5b) requires that Authorized Officers receive assurances from licensed architects and engineers that certify that the construction has been completed in accordance with the final design criteria for such work. SUP Clause IIB requires that “all plans for development, layout, construction, reconstruction, or alteration of improvements in the permit area, as well as revisions to those plans, must be prepared by a licensed engineer, architect, landscape architect, or other qualified professional acceptable to the Authorized Officer.

Need and Use of the Information: The standard Forest Service Special Use Permit requires the permit holder to be responsible for the design, construction, operation and maintenance of permitted facilities and public safety. Forest Service ski area permit administration through monitoring obtain assurance of the permit holder's compliance with terms and conditions of the special use permit. It is also appropriate, and suitable, to rely on professional certifications provided by the permit holder from licensed architects and engineers employed by or under contract to the permit holder to assist in obtaining this assurance. This is the practice used for authorized facilities on National Forest Service land. Generally, the Forest Service is most concerned about potential impacts to NFS land and resources from the permitted facilities and directs its attention to design features and monitoring facilities to protect those resources and ensure public safety. Forest Service Special Use Permit FS-2700-5b (hereafter-SUP) and Forest Service Manual (FSM) 7320 and 7330 outline what plans and specifications submittals are required for permitted facilities prior to construction, acceptance testing, and prior to Authorized Officer granting authorization to permit holder for the public operation of these facilities. A Certification of Concrete Construction outlines what level of review and quality assurance by a qualified engineer is required and necessary for authorized privately owned facility construction permitted on Forest Service lands.

Description of Respondents: Individuals and Households.

Number of Respondents: 10.

Frequency of Responses: Reporting: On occasion; Annually.

Total Burden Hours: 120.

Forest Service

Title: Assessing Technology Transfer Activities of the National Center for Reforestation, Nurseries, & Genetics Resources.

OMB Control Number: 0596-NEW.

Summary of Collection: The United States Department of Agriculture (USDA), United States Forest Service (Forest Service), National Center for Reforestation, Nurseries, and Genetic Resources (RNGR) supports the production of native plant materials for reforestation and restoration activities throughout the Nation and its insular areas. RNGR transfers important, science-based information to the managers of Federal, State, Tribal, other government entities, and private nurseries and farms.

The Washington State University, Social and Economic Sciences Research Center will design and collect information through a mail and web survey of the approximately 1,200 managers of Federal, State, Tribal, other government entities, and private nurseries and farms that produce native plant materials for reforestation and restoration. Information collected will include the name and address of the nursery, whether it is primarily for reforestation or restoration, what current RNGR products and tools the managers use and how effective are those products and tools, and what new technologies and approaches to transferring information might better serve managers. The Social and Economic Sciences Research Center will ensure survey validity and analyze and synthesize the information so that RNGR can implement the findings.

If the survey is not completed, RNGR may continue to use less effective and efficient methods to share science-based information with the managers Federal, State, Tribal, other government entities, and private nurseries and farms that produce native plant materials for reforestation and restoration. The goal of this survey is to implement more cost-effective methods of technology transfer delivered to managers in the best format for them.

Need and Use of the Information: This information will be used to assess what RNGR products and tools are currently being used by the managers/owners of facilities that produce native seeds and plants for reforestation and restoration, and how effective those products and tools are. In addition, this information will be used to determine what new products, technologies, and approaches to transferring information might better serve managers/owners. The Social and Economic Sciences Research Center will ensure survey validity and analyze and synthesize the information so that RNGR can implement the findings.

Description of Respondents: State, local, and tribal governmental.

Number of Respondents: 1200.

Frequency of Responses: Reporting: On occasion; Annually.

Total Burden Hours: 400.

Levi S. Harrell,
Departmental Information Collection Clearance Officer.

[FR Doc. 2022-03830 Filed 2-22-22; 8:45 am]

BILLING CODE 3411-15-P